DEPARTMENT OF COMMERCE

International Trade Administration

[A-570-891]

Hand Trucks and Certain Parts Thereof From the People's Republic of China: Final Results of the Expedited Second Sunset Review of the Antidumping Duty Order

AGENCY: Enforcement and Compliance, International Trade Administration, Department of Commerce.

DATES: Effective Date: July 10, 2015.

SUMMARY: As a result of this sunset review, the Department of Commerce (Department) finds that revocation of the antidumping duty order on hand trucks and certain parts thereof (hand trucks) from the People's Republic of China (PRC) would be likely to lead to continuation or recurrence of dumping. The magnitude of the dumping margins likely to prevail is indicated in the “Final Results of Sunset Review” section of this notice.

FOR FURTHER INFORMATION CONTACT: Jacqueline Arrowsmith, AD/CVD Operations, Office VII, Enforcement and Compliance, U.S. Department of Commerce, 14th Street and Constitution Avenue NW., Washington, DC 20230; telephone (202) 482-5255.

SUPPLEMENTARY INFORMATION:

Background

The antidumping duty order on hand trucks from the PRC was published on December 2, 2004.¹ On March 2, 2015, the Department published the notice of initiation of the sunset review of the antidumping duty order on hand trucks from the PRC pursuant to section 751(c) of the Tariff Act of 1930, as amended (the Act).²

¹ See Notice of Antidumping Duty Order: Hand Trucks and Certain Parts Thereof From the People's Republic of China, 69 FR 70122 (December 2, 2004).

² See Initiation of Five-Year (“Sunset”) Review, 80 FR 11164 (March 2, 2015) (Sunset Initiation).

In accordance with 19 CFR 351.218(d)(1)(i) and (ii), the Department received a notice of intent to participate in this sunset review from Gleason Industrial Products, Inc. and Precision Products, Inc. (collectively, Petitioners), within 15 days after the date of publication of the Sunset Initiation. Petitioners claimed interested party status under section 771(9)(C) of the Act, as a domestic producer of the domestic like product.

On March 26, 2015, the Department received a complete substantive response to the notice of initiation from Petitioners within the 30-day deadline specified in 19 CFR 351.218(d)(3)(i). The Department received no substantive response from any respondent interested parties. As a result, the Department conducted an expedited, i.e., 120-day, sunset review of this order pursuant to section 751(c)(3)(B) of the Act and 19 CFR 351.218(e)(1)(ii)(C)(2).

Scope of the Order

The merchandise subject to the order consists of hand trucks manufactured from any material, whether assembled or unassembled, complete or incomplete, suitable for any use, and certain parts thereof, namely the vertical frame, the handling area and the projecting edges or toe plate, and any combination thereof. They are typically imported under heading 8716.80.50.10 of the Harmonized Tariff Schedule of the United States (HTSUS), although they may also be imported under heading 8716.80.50.90 and 8716.90.50.60. Although the HTSUS subheadings are provided for convenience and customs purposes, the written product description is dispositive. A full description of the scope of the order is contained in the “Issues and Decision Memorandum for the Final Results of the Expedited Second Sunset Review of the Antidumping Duty Order on Hand Trucks and Certain Parts Thereof from the People's Republic of China,” dated concurrently with and hereby adopted by this notice (Decision Memorandum).

Analysis of Comments Received

All issues raised in this review are addressed in the Decision Memorandum, including the likelihood of continuation or recurrence of dumping in the event of revocation, and the magnitude of dumping margins likely to prevail if the order was revoked. Parties can find a complete discussion of all issues raised in this review and the corresponding recommendations in the Decision Memorandum, which is on file electronically via Enforcement and Compliance's Antidumping and Countervailing Duty Centralized Electronic Service System (ACCESS). ACCESS is available to registered users at http://access.trade.gov and is available to all parties in the Central Records Unit in room B8024 of the main Commerce building. In addition, a complete version of the Decision Memorandum can be accessed directly on the Internet at http://trade.gov/enforcement/. The signed and electronic versions of the Decision Memorandum are identical in content.

Final Results of Sunset Review

Pursuant to sections 752(c)(1) and (3) of the Act, we determine that revocation of the antidumping duty order on hand trucks from the PRC would be likely to lead to continuation or recurrence of dumping at weighted-average margins up to 383.60 percent.

Notification to Interested Parties

This notice serves as the only reminder to parties subject to administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

The Department is issuing and publishing these final results and notice in accordance with sections 751(c), 752(c), and 777(i)(1) of the Act and 19 CFR 351.218.

Dated: June 30, 2015.
Paul Piquado,
Assistant Secretary for Enforcement and Compliance.

[FR Doc. 2015-16932 Filed 7-9-15; 8:45 am]

BILLING CODE 3510-DS-P